DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2013 National Survey on Drug Use and Health (NSDUH) Dress Rehearsal (OMB No. 0930-0334)—Revision

The National Survey on Drug Use and Health (NSDUH) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

In order to continue producing current data, SAMHSA's Center for Behavioral Health Statistics and Quality (CBHSQ) must update the NSDUH periodically to reflect changing substance abuse and mental health issues. CBHSQ is in the process of redesigning the NSDUH for the 2015 survey year. The goals of the overall redesign are to: (1) Revise the questionnaire to address changing policy and research data needs, and (2) modify the survey methodology to improve the quality of estimates and the efficiency of data collection and processing. To achieve these goals, a Questionnaire Field Test (QFT) was conducted in late 2012 to test revisions to the questionnaire, study materials, and procedures. A Dress Rehearsal (DR) is planned for September and October 2013 to further refine and test changes implemented in the QFT as well as test all additional changes that have been identified for the 2015 redesign. These additional changes include an assessment of a new lightweight laptop used to administer the questionnaire, the addition of a Spanish language interview that was not included in the QFT to control costs, and additional select changes to the NSDUH questionnaire. The vast majority of differences in questionnaire content between the QFT and the proposed DR are minor. Changes include: (a) The addition of two sexual orientation questions to be asked of adults; (b) routine updates to routing and logic; (c) minimal changes to question wording throughout the instrument to clarify intent; and (d) the deletion of a question in the Back-end Demographics module about the number of employees who work at the respondent's business.

The DR will consist of 2,000 English and Spanish-speaking respondents in the continental United States. The sample size of the survey will be large enough to detect differences in key estimates between data collected using the annual NSDUH compared to the redesigned procedures. The total annual burden estimate is shown below:

Estimated Burden for 2013 NSDUH Dress Rehearsal
Instrument | Number of respondents | Responses per respondent | Hours per response | Total burden hours | Hourly wage rate | Annualized costs
Household Screening | 3,673 | 1 | 0.083 | 305 | $14.54 | $4,435
Interview | 2,000 | 1 | 1.000 | 2,000 | 14.54 | 29,080
Screening Verification | 100 | 1 | 0.067 | 6.7 | 14.54 | 97
Interview Verification | 300 | 1 | 0.067 | 20 | 14.54 | 291
Total | 3,673 |  |  |  | 2,332 | 33,903

Written comments and recommendations concerning the proposed information collection should be sent by June 12, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-11250 Filed 5-10-13; 8:45 am]

BILLING CODE 4162-20-P